DEPARTMENT OF HEALTH AND HUMAN SERVICES

National Institutes of Health

National Institute of Environmental Health Sciences; Amended Notice of Meeting

Notice is hereby given of a change in the meeting of the National Institute of Environmental Health Sciences Special Emphasis Panel, November 29, 2000, 1 p.m. to November 29, 2000, 3 p.m., NIEHS, 79 T.W. Alexander Drive, Building 4401, Conference Room 3446, Research Triangle Park, NC 27709 which was published in the Federal Register on October 19, 2000, FR 203:62741.

The telephone conference call meeting will be held on January 16, 2001, from 1 p.m. to 3 p.m. at the same location, instead of November 29, 2000, as previously advertised. The meeting is closed to the public.

Dated: November 17, 2000.
LaVerne Y. Stringfield,
Director, Office of Federal Advisory Committee Policy.

[FR Doc. 00-30176 Filed 11-27-00; 8:45 am]

BILLING CODE 4140-01-M